DEPARTMENT OF THE TREASURY

Community Development Financial Institutions Fund

Notice of Funds Availability (NOFA) Inviting Applications for the Supplemental FY 2009 Funding Round of the Community Development Financial Institutions (CDFI) Program

Announcement Type: Announcement of funding opportunity.

Catalog of Federal Domestic Assistance (CFDA) Number: 21.020.

Dates: Applications for Financial Assistance (FA) awards through the Supplemental FY 2009 Funding Round of the CDFI Program must be received by 5 p.m. et, Wednesday, May 27, 2009.

Executive Summary: For FY 2009, the Community Development Financial Institutions Fund (the Fund), an office within the Department of the Treasury, will conduct its CDFI Program funding round in two components: (i) the Initial FY 2009 Funding Round, as set forth in the NOFA published on August 15, 2008 (73 Federal Register 48011), and the Fund's Recovery Act Implementation Plan, issued on March 18, 2009 pursuant to the American Recovery and Reinvestment Act of 2009 (Pub. L. 111-5, Division A, Title V) (hereafter, the Recovery Act), and (ii) the Supplemental FY 2009 Funding Round, as set forth in this NOFA. Together, the two components comprise the FY 2009 Funding Round of the CDFI Program.

I. Funding Opportunity Description

A. Through the CDFI Program, the Fund provides: (i) FA awards to CDFIs that have Comprehensive Business Plans for creating demonstrable community development impact through the deployment of credit, capital, and financial services within their respective Target Markets or the expansion into new Investment Areas, Low-Income Targeted Populations, or Other Targeted Populations, and (ii) technical assistance (TA) grants to CDFIs and entities proposing to become CDFIs in order to build their capacity to better address the community development and capital access needs of their existing or proposed Target Markets and/or to become certified CDFIs.

B. The regulations governing the CDFI Program are found at 12 CFR Part 1805 (the Regulations) and provide guidance on evaluation criteria and other requirements of the CDFI Program. The Fund encourages Applicants to review the Regulations. Detailed application content requirements are found in the applicable funding application and related guidance materials. Each capitalized term in this NOFA is more fully defined in the Regulations, the application, or the guidance materials.

C. The Fund reserves the right to fund, in whole or in part, any, all, or none of the applications submitted in response to this NOFA. The Fund reserves the right to re-allocate funds from the amount that is anticipated to be available under this NOFA to other Fund programs, particularly if the Fund determines that the number of awards made under this NOFA is fewer than projected.

II. Award Information

A. Funding Availability: Through this NOFA, and subject to funding availability, the Fund expects that it may award approximately $55 million in appropriated funds in the form of FA-only awards to Category I/SECA and Category II/Core Applicants. The Fund reserves the right to award in excess of $55 million in appropriated funds to Applicants in the Supplemental FY 2009 Funding Round, provided that the funds are available and the Fund deems it appropriate.

B. Types of Awards: Funding for the Supplemental FY 2009 Funding Round is limited to FA awards only; FA awards will be made only in the form of grants. FA awards are intended to provide flexible financial support to CDFIs so that they may achieve the strategies outlined in their Comprehensive Business Plans. FA awards can be used in the following four categories: (i) Financial Products, (ii) Loan Loss Reserves, (iii) Capital Reserves, and/or (iv) Operations. For purposes of this NOFA, Financial Products means loans, grants, equity investments and similar financing activities, including the purchase of loans originated by certified CDFIs and the provision of loan guarantees, in the Applicant's Target Market, or for related purposes that the Fund deems appropriate. Loan Loss Reserves means funds that the Applicant will set aside in the form of cash, or through accounting-based accrual, reserves to cover losses on loans, accounts and notes receivable made in its Target Market, or for related purposes that the Fund deems appropriate. Capital Reserves means funds that the Applicant will set aside in the form of reserves to support the Applicant's ability to leverage other capital, for such purposes as increasing its net assets or serving the financing needs of its Target Market, or for related purposes that the Fund deems appropriate. FA awards used for Operations refer to funds that the Applicant will use to undertake Development Services, Financial Services, and/or related purposes that the Fund deems appropriate. FA awards are most commonly used for an Applicant's Financial Products since FA funds can be used to support the Applicant's community development lending activities.

The Fund reserves the right, in its sole discretion, to provide a FA award in an amount other than that which the Applicant requests; however, the award amount will not exceed the Applicant's award request as stated in its Application.

C. Notice of Award; Assistance Agreement: Each Awardee under this NOFA must sign a Notice of Award and an Assistance Agreement in order to receive a disbursement of award proceeds by the Fund. The Notice of Award and the Assistance Agreement contain the terms and conditions of the award. For further information, see Sections VI.A and VI.B of this NOFA.

III. Eligibility Information

A. Eligible Applicants: The Regulations specify the eligibility requirements that each Applicant must meet in order to be eligible to apply for assistance under this NOFA. The following sets forth additional detail and dates that relate to the submission of applications under this NOFA:

1. Any Certified or Certifiable CDFI that did not apply in the Initial FY 2009 Funding Round is eligible to apply for a FA award under the Supplemental FY 2009 Funding Round, as set forth in this NOFA. For eligibility criteria applicable to entities that submitted applications under the Initial FY 2009 Funding Round, see Section III.A.2., below.

2. Eligibility of Initial FY 2009 Funding Round Applicants:

(a) Any Applicant that submitted an application under the Initial FY 2009 Funding Round will automatically be considered for funding through the Supplemental FY 2009 Funding Round, so long as the Applicant: (i) Submitted an application for FA or FA/TA under the Initial FY 2009 Funding Round prior to the October 29, 2008 application deadline, and (ii) did not receive notification from either Grants.gov or the CDFI Fund that its application was declined, rejected, ineligible, or fatally incomplete. Such an Applicant does not need to submit a new application for an award through the Supplemental FY 2009 Funding Round: meaning, the application that such an Applicant submitted for the Initial FY 2009 Funding Round will be considered by the Fund for an award under the Supplemental FY 2009 Funding Round. Please note, however, that any Applicant that receives a FA award under the Initial FY 2009 Funding Round may not also receive a FA award under the Supplemental FY 2009 Funding Round.

(b) An Applicant that applied for FA or FA/TA under the Initial FY 2009 Funding Round whose application was submitted after the October 29, 2008 application deadline, or that received notification from Grants.gov or the CDFI Fund that its application was declined, rejected, ineligible, or fatally incomplete must submit a new application under this NOFA in order to be eligible for funding in the Supplemental FY 2009 Funding Round: Meaning, the application that such an Applicant submitted for the Initial FY 2009 Funding Round will not be considered for an award under the Supplemental FY 2009 Funding Round.

(c) An Applicant that submitted an application for TA-Only under the Initial FY 2009 Funding Round must submit an application under this NOFA to be eligible for FA funding in the Supplemental FY 2009 Funding Round.

3. FA Applicant Categories: All Applicants for FA awards through this NOFA must meet the criteria for one of the following two categories:

Table 1—FA Applicant Criteria
FA Applicant category | Applicant criteria | Applicant may apply for: | Application deadline
Category I/Small and/or Emerging CDFI Assistance (SECA) | (1) Is a Certified/Certifiable CDFI; (2) Has total assets, as of the end of the Applicant's most recent fiscal year end or March 31, 2009, as follows: | Up to and including $600,000 in FA funds | 5 p.m. ET, Wednesday, May 27, 2009.
| • Insured Depository Institutions and Depository Institution Holding Companies: Up to $250 million
| • Insured Credit Unions: Up to $10 million
| • Venture capital funds: Up to $10 million
| • Other CDFIs: Up to $5 million; or
| (3) Began operations on or after January 1, 2005; and
| (4) Prior to the application deadline, has not been selected to receive in excess of $500,000 in FA award(s) in the aggregate from the CDFI Program or Native Initiatives Funding Programs
Category II/Core | A Certified/Certifiable CDFI that meets all other eligibility requirements described in this NOFA | Up to and including $2 million in FA funds. However, the amount of FA funds awarded may be reduced by the amount of any TA awards received by an Awardee in the Initial FY 2009 Funding Round | 5 p.m. ET, Wednesday, May 27, 2009.

Please note: (1) The Fund reserves the right, in its sole discretion, to award amounts in excess of or less than the anticipated maximum award amounts permitted in this NOFA, if the Fund deems it appropriate. (2) Any Applicant that requests FA funding in excess of $600,000 is classified as a Category II/Core Applicant, regardless of its total assets, years in operation, or prior Fund awards. (3) The term “began operations” is defined as the financing activity start date indicated in the Applicant's myCDFIFund account. (4) The term “Native Initiatives Funding Programs” refers to the Native American CDFI Assistance (NACA) Program and all prior Native American funding programs sponsored by the Fund, through which funds are no longer available, including the Native American CDFI Technical Assistance (NACTA) Component of the CDFI Program, the Native American CDFI Development (NACD) Program, and the Native American Technical Assistance (NATA) Component of the CDFI Program.

4. CDFI Certification Requirements: For purposes of this NOFA, eligible FA Applicants include Certified CDFIs and Certifiable CDFIs, defined as follows:

(a) Certified CDFIs: For purposes of this NOFA, a Certified CDFI is an entity that has received official notification from the Fund that it meets all CDFI certification requirements as of March 18, 2009, the certification of which has not expired and that has not been notified by the Fund that its certification has been terminated. Each such Applicant must submit a “Certification of Material Event Form” to the Fund not later than May 15, 2009.

Please note: The Fund provided some CDFIs with written notification that their certifications had been extended. The Fund will consider the extended certification date (the later date) to determine whether those CDFIs meet this eligibility requirement.

(b) Certifiable CDFIs: For purposes of this NOFA, a Certifiable CDFI is an entity from which the Fund has received a complete CDFI Certification Application no later than March 18, 2009, evidencing that the Applicant meets the requirements to be certified as a CDFI.

Please note: While a Certifiable CDFI may be conditionally selected for a FA award (as evidenced through the Notice of Award), the Fund will not enter into an Assistance Agreement or disburse award funds unless and until the Fund has officially certified the organization as a CDFI. If the Fund is unable to certify the organization as a CDFI based on the CDFI certification application that the organization submits to the Fund, the Notice of Award may be terminated and the award commitment may be cancelled, in the sole discretion of the Fund.

5. Limitation on Awards: An Applicant may receive only one FA award through the FY 2009 Funding Round of the CDFI Program; meaning, any Applicant that receives a FA award under the Initial FY 2009 Funding Round may not also receive a FA award under the Supplemental FY 2009 Funding Round. Further, the amount of a FA award made through the Supplemental FY 2009 Funding Round will be reduced by the amount of any TA award received by an Awardee in the Initial FY 2009 Funding Round. A CDFI Program Applicant, its Subsidiaries or Affiliates also may apply for and receive a tax credit allocation through the New Markets Tax Credit (NMTC) Program, but only to the extent that the activities approved for CDFI Program awards are different from those activities for which the Applicant receives a NMTC Program allocation.

6. Waiver of General Applicability for FY 2009 BEA Program Applicants: For the purposes of the Supplemental FY 2009 Funding Round of the CDFI Program, the Fund hereby waives the requirements of 12 CFR 1805.102(a)(1)(i). All other requirements of 12 CFR 1805.102 remain in effect. Therefore, an Applicant may receive a FY 2009 Bank Enterprise Award (BEA) Program award if it has a CDFI Program application pending in the Supplemental FY 2009 Funding Round of the CDFI Program subject to the limitations of 12 CFR 1806.102.

7. Contacting the Fund. The CDFI Certification Application and other information regarding CDFI certification may be obtained from the Fund's Web site at http://www.cdfifund.gov.

B. Prior Awardees: Applicants must be aware that success in a prior round of any of the Fund's programs is not indicative of success under this NOFA. For purposes of this section, the Fund will consider an Affiliate to be any entity that meets the definition of Affiliate in the Regulations or any entity otherwise identified as an Affiliate by the Applicant in its funding Application under this NOFA. Prior Awardees should note the following:

1. $5 million funding cap: Pursuant to the Recovery Act, the $5 million dollar funding cap is waived for the FY 2009 Funding Round of the CDFI Program.

2. Failure to meet reporting requirements: The Fund will not consider an application submitted by an Applicant if the Applicant, or an Affiliate of the Applicant is a prior Fund Awardee or allocatee under any Fund program and is not current on the reporting requirements set forth in a previously executed assistance, allocation or award agreement(s), as of the applicable application deadline of this NOFA. Please note that the Fund only acknowledges the receipt of reports that are complete. As such, incomplete reports or reports that are deficient of required elements will not be recognized as having been received.

3. Pending resolution of noncompliance: If an Applicant is a prior Awardee or allocatee under any Fund program and if: (i) It has submitted complete and timely reports to the Fund that demonstrate noncompliance with a previous assistance, allocation, or award agreement; and (ii) the Fund has yet to make a final determination as to whether the entity is in default of its previous assistance, allocation, or award agreement, the Fund will consider the Applicant's application under this NOFA pending full resolution, in the sole determination of the Fund, of the noncompliance. Further, if an Affiliate of the Applicant is a prior Fund Awardee or allocatee and if such entity: (i) Has submitted complete and timely reports to the Fund that demonstrate noncompliance with a previous assistance, allocation, or award agreement; and (ii) the Fund has yet to make a final determination as to whether the entity is in default of its previous assistance, allocation, or award agreement, the Fund will consider the Applicant's application under this NOFA pending full resolution, in the sole determination of the Fund, of the noncompliance.

4. Default status: The Fund will not consider an application submitted by an Applicant that is a prior Fund Awardee or allocatee under any Fund program if, as of the applicable application deadline of this NOFA, the Fund has made a final determination that such Applicant is in default of a previously executed assistance, allocation, or award agreement(s). Further, an entity is not eligible to apply for an award pursuant to this NOFA if, as of the applicable application deadline of this NOFA, the Fund has made a final determination that an Affiliate of the Applicant is a prior Fund Awardee or allocatee under any Fund program and has been determined by the Fund to be in default of a previously executed assistance, allocation, or award agreement(s). Such entities will be ineligible to apply for an award pursuant to this NOFA so long as the Applicant's, or its Affiliate's, prior award or allocation remains in default status or such other time period as specified by the Fund in writing.

5. Termination in default: The Fund will not consider an application submitted by an Applicant that is a prior Fund Awardee or allocatee under any Fund program if: (i) Within the 12-month period prior to the applicable application deadline of this NOFA, the Fund has made a final determination that such Applicant's prior award or allocation terminated in default of a previously executed assistance, allocation, or award agreement(s); and (ii) the final reporting period end date for the applicable terminated assistance, allocation, or award agreement(s) falls within the 12-month period prior to the application deadline of this NOFA. Further, an entity is not eligible to apply for an award pursuant to this NOFA if: (i) Within the 12-month period prior to the applicable application deadline, the Fund has made a final determination that an Affiliate of the Applicant is a prior Fund Awardee or allocatee under any Fund program whose award or allocation terminated in default of a previously executed assistance, allocation, or award agreement(s); and (ii) the final reporting period end date for the applicable terminated assistance, allocation, or award agreement(s) falls within the 12-month period prior to the application deadline of this NOFA.

6. Undisbursed award funds: The Fund will not consider an application submitted by an Applicant that is a prior Fund Awardee under any Fund program if the Applicant has a balance of undisbursed award funds (defined below) under said prior award(s), as of the applicable application deadline of this NOFA. Further, an entity is not eligible to apply for an award pursuant to this NOFA if an Affiliate of the Applicant is a prior Fund Awardee under any Fund program, and has a balance of undisbursed award funds under said prior award(s), as of the applicable application deadline of this NOFA. In a case where another entity that Controls the Applicant, is Controlled by the Applicant or shares common management officials with the Applicant (as determined by the Fund) is a prior Fund Awardee under any Fund program and has a balance of undisbursed award funds under said prior award(s), as of the applicable application deadline of this NOFA, the Fund will include the combined awards of the Applicant and such Affiliated entities when calculating the amount of undisbursed award funds.

For purposes of the calculation of undisbursed award funds for the BEA Program, only awards made to the Applicant (and any Affiliates) three to five calendar years prior to the end of the calendar year of the application deadline of this NOFA are included (“includable BEA awards”). Thus, for purposes of this NOFA, undisbursed BEA Program award funds are the amount of FYs 2004, 2005, and 2006 awards that remain undisbursed as of the application deadline of this NOFA.

For purposes of the calculation of undisbursed award funds for the CDFI Program and the Native Initiatives Funding Programs, only awards made to the Applicant (and any Affiliates) two to five calendar years prior to the end of the calendar year of this NOFA are included (“includable CDFI/NI awards”). Thus, for purposes of this NOFA, undisbursed CDFI Program and NI awards are the amount of FYs 2004, 2005, 2006, and 2007 awards that remain undisbursed as of the application deadline of this NOFA.

To calculate total includable BEA/CDFI/NI awards: amounts that are undisbursed as of the application deadline of this NOFA cannot exceed five percent (5%) of the total includable awards. Please refer to an example of this calculation on the Fund's Web site, found in the Q&A document for the FY 2009 Funding Round.

The “undisbursed award funds” calculation does not include: (i) Tax credit allocation authority made available through the NMTC Program; (ii) any award funds for which the Fund received a full and complete disbursement request from the Awardee by the applicable application deadline of this NOFA; (iii) any award funds for an award that has been terminated in writing by the Fund or deobligated by the Fund; or (iv) any award funds for an award that does not have a fully executed assistance or award agreement. The Fund strongly encourages Applicants requesting disbursements of “undisbursed funds” from prior awards to provide the Fund with a complete disbursement request at least 10 business days prior to the application deadline of this NOFA.

7. Contacting the Fund: Applicants that are prior Fund Awardees are advised to: (i) Comply with requirements specified in assistance, allocation and/or award agreement(s), and (ii) contact the Fund to ensure that all necessary actions are underway for the disbursement or deobligation of any outstanding balance of said prior award(s). Disbursement questions should be directed to Grants Management via e-mail to grantsmanagement@cdfi.treas.gov. Reporting and compliance questions should be directed to Compliance, Monitoring and Evaluation (CME) at (202) 622-6330 or by e-mail to cme@cdfi.treas.gov. Telephone calls to Grants Management and Financial Management should be directed to (202) 622-8226; facsimiles to (202) 622-7754; and mail to CDFI Fund, 601 13th Street, NW., Suite 200 South, Washington, DC 20005. The Fund will respond to Applicants' reporting, disbursement or compliance questions between the hours of 9 a.m. and 5 p.m. ET, starting the date of the publication of this NOFA through May 25, 2009. The Fund will not respond to Applicants' reporting, disbursement or compliance phone calls or e-mail inquiries that are received after 5 p.m. ET on said date, until after the funding application deadline.

C. Other Targeted Populations as Target Markets: Other Targeted Populations are defined as identifiable groups of individuals in the Applicant's service area for which there exists a strong basis of evidence that they lack access to loans, Equity Investments, and/or Financial Services. The Fund has determined that there is strong basis of evidence that the following groups of individuals lack access to loans, Equity Investments, and/or Financial Services on a national level: Blacks or African Americans, Native Americans or American Indians, and Hispanics or Latinos. In addition, for purposes of this NOFA, the Fund has determined that there is a strong basis of evidence that Alaskan Natives residing in Alaska, Native Hawaiians residing in Hawaii, and Other Pacific Islanders residing in other Pacific Islands, lack adequate access to loans, Equity Investments, or Financial Services. An Applicant designating any of the above-cited Other Targeted Populations is not required to provide additional narrative explaining the Other Targeted Population's lack of adequate access to loans, Equity Investments, or Financial Services. For purposes of this NOFA, the Fund will use the following definitions, set forth in the Office of Management and Budget (OMB) Notice, Revisions to the Standards for the Classification of Federal Data on Race and Ethnicity (October 30, 1997), as amended and supplemented:

(a) American Indian, Native American or Alaskan Native: a person having origins in any of the original peoples of North and South America (including Central America) and who maintains tribal affiliation or community attachment;

(b) Black or African American: a person having origins in any of the black racial groups of Africa (terms such as “Haitian” or “Negro” can be used in addition to “Black or African American”);

(c) Hispanic or Latino: a person of Cuban, Mexican, or Puerto Rican, South or Central American or other Spanish culture or origin, regardless of race (the term “Spanish origin” can be used in addition to “Hispanic or Latino”); and

(d) Native Hawaiian: a person having origins in any of the original peoples of Hawaii; and

(e) Other Pacific Islander: a person having origins in any of the original peoples of Guam, Samoa or other Pacific Islands.

D. Matching Funds: Pursuant to the Recovery Act, matching funds requirements have been waived for the FY 2009 Funding Round of the CDFI Program.

IV. Application and Submission Information

A. Form of Application Submission: Applicants must submit applications under this NOFA electronically. Applications sent by mail, facsimile, or other form will not be permitted, except in circumstances that the Fund, in its sole discretion, deems acceptable.

B. Applications Submitted via myCDFIFund: Applicants must submit applications under this NOFA electronically, through myCDFIFund, the Fund's internet-based interface. Please note that, for the Supplemental FY 2009 Funding Round, the Fund will not accept Applications through Grants.gov. Applications sent by mail, facsimile, or other form will generally not be accepted, except in circumstances approved by the Fund, in its sole discretion. The Fund will post to its Web site at www.cdfifund.gov instructions for accessing and submitting an Application as soon as they become available.

C. Application Content Requirements: Detailed application content requirements are found in the application and guidance. Please note that, pursuant to OMB guidance (68 Federal Register 38402), each Applicant must provide, as part of its application submission, a Dun and Bradstreet Data Universal Numbering System (DUNS) number. In addition, each application must include a valid and current Employer Identification Number (EIN), with a letter or other documentation from the Internal Revenue Service (IRS) confirming the Applicant's EIN. An electronic application that does not include an EIN is incomplete and cannot be transmitted to the Fund. Applicants should allow sufficient time for the IRS and/or Dun and Bradstreet to respond to inquiries and/or requests for identification numbers. Once an application is submitted, the Applicant will not be allowed to change any element of the application. The preceding sentence does not limit the Fund's ability to contact an Applicant for the purpose of obtaining clarifying or confirming application information (such as a DUNS number or EIN information).

D. MyCDFIFund Accounts: All Applicants must register User and Organization accounts in myCDFIFund, the Fund's Internet-based interface. An Applicant must be registered as both a User and an Organization in myCDFIFund as of the applicable application deadline in order to be considered to have submitted a complete application. As myCDFIFund is the Fund's primary means of communication with Applicants and Awardees, organizations must make sure that they update the contact information in their myCDFIFund accounts before the applicable application deadline. For more information on myCDFIFund, please see the “Frequently Asked Questions” link posted at https://www.cdfifund.gov/myCDFI/Help/Help.asp.

E. Under the Paperwork Reduction Act (44 U.S.C. chapter 35), an agency may not conduct or sponsor a collection of information, and an individual is not required to respond to a collection of information, unless it displays a valid OMB control number. Pursuant to the Paperwork Reduction Act, the Application has been assigned the following control number: 1559-0021.

F. Application Deadlines: Applicants must submit all materials described in and required by the application by the applicable deadline.

1. Application Deadlines: Applications must be received in accordance with this NOFA by the following deadlines:

Table 2—FY 2009 CDFI Program Deadlines
[All 5 p.m. ET deadlines]
Application type | Application deadline | Last date to contact fund staff
CDFI Program Funding Application (FA) (Core/SECA) | Wednesday, May 27, 2009 | Monday, May 25, 2009.

All funding applications must be electronic and submitted through myCDFIFund: No paper submittals or attachments will be accepted (please see the CDFI Certification Application for requirements specific to that application).

2. Late Delivery: The Fund will neither accept a late application nor any portion of an application that is late; an application that is late, or for which any portion is late, will be rejected. The Fund will not grant exceptions or waivers. Any application that is deemed ineligible will not be returned to the Applicant.

G. Intergovernmental Review: Not applicable.

H. Funding Restrictions: For allowable uses of FA proceeds, please see the Regulations at 12 CFR 1805.301.

V. Application Review Information

A. Format: Funding applications must be single-spaced and use a 12-point font with 1-inch margins. Each section in the Application that is scored has page limitations. Applicants are encouraged to read each section carefully and to remain within the page limitations for each section. The Fund will not consider responses beyond the specified page limitation in each section. Also, the Fund will read only information requested in the Application and will not read attachments that have not been specifically requested in this NOFA or the Application, such as the Applicant's five-year strategic or marketing plans.

B. Criteria: The Fund will evaluate each application on a 100-point scale using numeric scores with respect to the five sections required in the Application. The Fund will score each section as follows:

Table 3—Application Scoring Criteria
Application sections | Scoring points
Market Analysis | SECA-25 Core-20.
Business Strategy | SECA-25 Core-20.
Community Development Performance & Effective Use | SECA-20 Core-20.
Management | SECA-20 Core-20.
Financial Health & Viability | SECA-10 Core-20.

C. Review and Selection Process:

1. Eligibility and Completeness Review: The Fund will review each application to determine whether it is complete and the Applicant meets the eligibility requirements set forth above. An incomplete application does not meet eligibility requirements and will be rejected. Any application that does not meet eligibility requirements will not be returned to the Applicant.

2. Substantive Review: If an application is determined to be complete and the Applicant is determined to be eligible, the Fund will conduct the substantive review of the application in accordance with the criteria and procedures described in the Regulations, this NOFA, and the application and guidance. As part of the review process, the Fund may contact the Applicant by telephone, e-mail, mail, or through an on-site visit for the sole purpose of obtaining clarifying or confirming application information (such as statements of work, matching funds documentation, EINs, or DUNS numbers, for example). After submitting its application, the Applicant will not be permitted to revise or modify its application in any way nor attempt to negotiate the terms of an award. If contacted for clarifying or confirming information, the Applicant must respond within the time parameters set by the Fund.

3. Application Scoring; Ranking:

(a) Application Scoring: The Fund will evaluate each application on a 100-point scale, comprising the five criteria categories described above, and assign numeric scores. An Applicant must receive a minimum score in each evaluation criteria in order to be considered for an award.

(b) Evaluating Prior Award Performance: In the case of an Applicant that has previously received funding from the Fund through any Fund program, the Fund will consider and will deduct points for: (i) The Applicant's noncompliance with any active award or award that terminated in Calendar Year 2009 in meeting its performance goals and measures, reporting deadlines, and other requirements set forth in the assistance or award agreement(s) with the Fund during the Applicant's two complete fiscal years prior to the application deadline of this NOFA; (ii) the Applicant's failure to make timely loan payments to the Fund during the Applicant's two complete fiscal years prior to the application deadline of this NOFA (if applicable); (iii) performance on any prior Assistance Agreement as part of the overall assessment of the Applicant's ability to carry out its Comprehensive Business Plan; and (iv) funds deobligated from a FY 2006, FY 2007, or FY 2008 FA award (if the Applicant is applying for a FA award under this NOFA) if (A) the amount of deobligated funds is at least $200,000 and (B) the deobligation occurred subsequent to the expiration of the period of award funds availability (generally, any funds deobligated after the September 30th following the year in which the award was made). Any award deobligations that result in a point deduction under an application submitted pursuant to either funding round of this NOFA will not be counted against any future application for FA through the CDFI Program. Furthermore, in the case of an Applicant that has previously received funding through any Fund program, the Fund will consider and may, in its discretion, deduct points for those Applicants that have in any proceeding instituted against the Applicant in, by, or before any court, governmental or administrative body or agency received a final determination within the last three (3) years indicating that the Applicant has discriminated on the basis of race, color, national origin, disability, age, marital status, receipt of income from public assistance, religion, or sex.

(c) Ranking: The Fund then will rank the applications by their scores, from highest to lowest.

4. Award Selection: The Fund will make its final award selections based on the rank order of Applicants by their scores and the amount of funds available. Category I/SECA and Category II/Core Applicants will be ranked separately. In addition, the Fund shall consider the institutional and geographic diversity of Applicants when making its funding decisions.

5. Insured CDFIs: In the case of Insured Depository Institutions and Insured Credit Unions, the Fund will take into consideration the views of the Appropriate Federal Banking Agencies; in the case of State-Insured Credit Unions, the Fund may consult with the appropriate State banking agencies (or comparable entity). The Fund will not approve a FA award to any Insured Credit Union (other than a State-Insured Credit Union) or Insured Depository Institution Applicant for which its Appropriate Federal Banking Agency indicates it has safety and soundness concerns, unless the Appropriate Federal Banking Agency asserts, in writing, that (i) improvement in status is imminent and such improvement is expected to occur not later than September 30, 2009, or within such other time frame deemed acceptable by the Fund, or (ii) the safety and soundness condition of the Applicant is adequate to undertake the activities for which the Applicant has requested a FA award and the obligations of an Assistance Agreement related to such a FA award.

6. Award Notification: Each Applicant will be informed of the Fund's award decision either through a Notice of Award if selected for an award (see Notice of Award section, below) or written declination if not selected for an award. Each Applicant that is not selected for an award based on reasons other than completeness or eligibility issues will be provided a written debriefing on the strengths and weaknesses of its application. This feedback will be provided in a format and within a timeframe to be determined by the Fund, based on available resources. The Fund will notify Awardees by e-mail using the addresses maintained in the Awardee's myCDFIFund account (postal mailings will be used only in rare cases).

7. The Fund reserves the right to reject an application if information (including administrative errors) comes to the attention of the Fund that either adversely affects an applicant's eligibility for an award, or adversely affects the Fund's evaluation or scoring of an application, or indicates fraud or mismanagement on the part of an Applicant. If the Fund determines that any portion of the application is incorrect in any material respect, the Fund reserves the right, in its sole discretion, to reject the application. The Fund reserves the right to change its eligibility and evaluation criteria and procedures, if the Fund deems it appropriate; if said changes materially affect the Fund's award decisions, the Fund will provide information regarding the changes through the Fund's Web site. There is no right to appeal the Fund's award decisions. The Fund's award decisions are final.

VI. Award Administration Information

A. Notice of Award: The Fund will signify its conditional selection of an Applicant as an Awardee by delivering a signed Notice of Award to the Applicant through its myCDFIFund account. The Notice of Award will contain the general terms and conditions underlying the Fund's provision of assistance including, but not limited to, the requirement that the Awardee and the Fund enter into an Assistance Agreement. The Applicant must execute the Notice of Award and return it to the Fund. By executing a Notice of Award, the Awardee agrees, among other things, that, if prior to entering into an Assistance Agreement with the Fund, information (including administrative error) comes to the attention of the Fund that either adversely affects the Awardee's eligibility for an award, adversely affects the Fund's evaluation of the Awardee's application, or indicates fraud or mismanagement on the part of the Awardee, the Fund may, in its discretion and without advance notice to the Awardee, terminate the Notice of Award or take such other actions as it deems appropriate. Moreover, by executing a Notice of Award, the Awardee agrees that, if prior to entering into an Assistance Agreement with the Fund, the Fund determines that the Awardee or an Affiliate of the Awardee, is in default of any Assistance Agreement previously entered into with the Fund, the Fund may, in its discretion and without advance notice to the Awardee, either terminate the Notice of Award or take such other actions as it deems appropriate. The Fund reserves the right, in its sole discretion, to rescind its award if the Awardee fails to return the Notice of Award, signed by the authorized representative of the Awardee, along with any other requested documentation, within the deadline set by the Fund. For purposes of this section, the Fund will consider an Affiliate to mean any entity that meets the definition of Affiliate in the Regulations or any entity otherwise identified as an Affiliate by the Applicant in its funding Application under this NOFA.

1. Failure to meet reporting requirements: If, after considering an Application, an Awardee, or an Affiliate of the Awardee that is a prior Fund Awardee or allocatee under any Fund program becomes not current on the reporting requirements set forth in the previously executed assistance, allocation, or award agreement(s), as of the date of the Notice of Award, the Fund reserves the right, in its sole discretion, to delay entering into an Assistance Agreement until said prior Awardee or allocatee is current on the reporting requirements in any previously executed assistance, allocation, or award agreement(s). Please note that the Fund only acknowledges the receipt of reports that are complete. As such, incomplete reports or reports that are deficient of required elements will not be recognized as having been received. If said prior Awardee or allocatee is unable to meet this requirement within the timeframe set by the Fund, the Fund reserves the right, in its sole discretion, to terminate and rescind the Notice of Award and the award made under this NOFA.

2. Pending resolution of noncompliance: If an Applicant is a prior Awardee or allocatee under any Fund program and if: (i) It has submitted complete and timely reports to the Fund that demonstrate noncompliance with a previous assistance, award, or allocation agreement; and (ii) the Fund has yet to make a final determination as to whether the entity is in default of its previous assistance, award, or allocation agreement, the Fund reserves the right, in its sole discretion, to delay entering into an Assistance Agreement, pending full resolution, in the sole determination of the Fund, of the noncompliance. Further, if an Affiliate of the Awardee is a prior Fund Awardee or allocatee and if such entity: (i) Has submitted complete and timely reports to the Fund that demonstrate noncompliance with a previous assistance, award, or allocation agreement; and (ii) the Fund has yet to make a final determination as to whether the entity is in default of its previous assistance, award, or allocation agreement, the Fund reserves the right, in its sole discretion, to delay entering into an Assistance Agreement, pending full resolution, in the sole determination of the Fund, of the noncompliance. If the prior Awardee or allocatee in question is unable to satisfactorily resolve the issues of noncompliance, in the sole determination of the Fund, the Fund reserves the right, in its sole discretion, to terminate and rescind the Notice of Award and the award made under this NOFA.

3. Default status: If, after considering an application and prior to entering into an Assistance Agreement through this NOFA, the Fund has made a final determination that an Awardee that is a prior Fund Awardee or allocatee under any Fund program is in default of a previously executed assistance, allocation, or award agreement(s), the Fund reserves the right, in its sole discretion, to delay entering into an Assistance Agreement, until said prior Awardee or allocatee has submitted a complete and timely report demonstrating full compliance with said agreement within a timeframe set by the Fund. Further, if at any time prior to entering into an Assistance Agreement through this NOFA, the Fund has made a final determination that an Affiliate of the Awardee is a prior Fund Awardee or allocatee under any Fund program and is in default of a previously executed assistance, allocation, or award agreement(s), the Fund reserves the right, in its sole discretion, to delay entering into an Assistance Agreement, until said prior Awardee or allocatee has submitted a complete and timely report demonstrating full compliance with said agreement within a timeframe set by the Fund. If said prior Awardee or allocatee is unable to meet this requirement and the Fund has not specified in writing that the prior Awardee or allocatee is otherwise eligible to receive an Award under this NOFA, the Fund reserves the right, in its sole discretion, to terminate and rescind the Notice of Award and the award made under this NOFA.

4. Termination in default: If (i) within the 12-month period prior to entering into an Assistance Agreement through this NOFA, the Fund has made a final determination that an Awardee is a prior Fund Awardee or allocatee under any Fund program whose award or allocation was terminated in default of such prior agreement; and (ii) the final reporting period end date for the applicable terminated agreement falls within the 12-month period prior to the application deadline of this NOFA, the Fund reserves the right, in its sole discretion, to delay entering into an Assistance Agreement. Further, if (i) within the 12-month period prior to entering into an Assistance Agreement through this NOFA, the Fund has made a final determination that an Affiliate of the Awardee is a prior Fund Awardee or allocatee under any Fund program whose award or allocation was terminated in default of such prior agreement; and (ii) the final reporting period end date for the applicable terminated agreement falls within the 12-month period prior to the application deadline of this NOFA, the Fund reserves the right, in its sole discretion, to delay entering into an Assistance Agreement.

5. Deobligated awards: An Awardee that receives a FA award pursuant to this NOFA for which an amount over $200,000 is deobligated by the Fund subsequent to the expiration of the period of award funds availability (generally, any funds deobligated after the September 30th following the year in which the award was made) but within the 12 months prior to the application deadline, may not apply for a new award through the NOFA for another CDFI Fund program funding round after the date of said deobligation.

6. Compliance with Federal Anti-Discrimination Laws: If the Awardee has previously received funding through any Fund program, and if at any time prior to entering into an Assistance Agreement through this NOFA, the Fund is made aware of a final determination, made within the last three (3) years, in any proceeding instituted against the Awardee in, by, or before any court, governmental, or administrative body or agency, declaring that the Awardee has discriminated on the basis of race, color, national origin, disability, age, marital status, receipt of income from public assistance, religion, or sex, the Fund reserves the right, in its sole discretion, to terminate and rescind the Notice of Award and the award made under this NOFA.

B. Assistance Agreement: Each Applicant that is selected to receive an award under this NOFA must enter into an Assistance Agreement with the Fund in order to receive disbursement of award proceeds. The Assistance Agreement will set forth certain required terms and conditions of the award, which will include, but not be limited to: (i) The amount of the award; (ii) the type of award; (iii) the approved uses of the award; (iv) the approved eligible market to which the funded activity must be targeted; (v) performance goals and measures; and (vi) reporting requirements for all Awardees. FA-only Assistance Agreements under this NOFA generally will have three-year performance periods.

The Fund reserves the right, in its sole discretion, to terminate the Notice of Award and rescind an award if the Awardee fails to return the Assistance Agreement, signed by the authorized representative of the Awardee, and/or provide the Fund with any other requested documentation, within the deadlines set by the Fund.

Each FA Awardee must provide the Fund with a certificate of good standing (or equivalent documentation) from its state (or jurisdiction) of incorporation.

C. Reporting:

1. Reporting requirements: The Fund will collect information, on at least an annual basis, from each Awardee including, but not limited to, an Annual Report that comprises the following components: (i) Financial Reports (including an OMB A-133 audit, as applicable); (ii) Institution Level Report; (iii) Transaction Level Report (for Awardees receiving FA awards); (iv) Uses of Financial Assistance Report (for Awardees receiving FA awards); (v) Explanation of Noncompliance (as applicable); and (vi) such other information as the Fund may require. Each Awardee is responsible for the timely and complete submission of the Annual Report, even if all or a portion of the documents actually is completed by another entity or signatory to the Assistance Agreement. If such other entities or signatories are required to provide Institution Level Reports, Transaction Level Reports, Financial Reports, or other documentation that the Fund may require, the Awardee is responsible for ensuring that the information is submitted timely and complete. The Fund reserves the right to contact such additional entities or signatories to the Assistance Agreement and require that additional information and documentation be provided. The Fund will use such information to monitor each Awardee's compliance with the requirements set forth in the Assistance Agreement and to assess the impact of the CDFI Program. The Institution Level Report and the Transaction Level Report must be submitted through the Fund's web-based data collection system, the Community Investment Impact System (CIIS). The Financial Report may be submitted through CIIS. All other components of the Annual Report may be submitted electronically, as directed, by the Fund. The Fund reserves the right, in its sole discretion, to modify these reporting requirements if it determines it to be appropriate and necessary; however, such reporting requirements will be modified only after notice to Awardees.

2. Accounting: The Fund will require each Awardee that receives a FA award through this NOFA to account for and track the use of said FA award. This means that for every dollar of a FA award received from the Fund, the Awardee will be required to inform the Fund of its uses. This will require Awardees to establish separate administrative and accounting controls, subject to the applicable OMB Circulars. The Fund will provide guidance to Awardees outlining the format and content of the information to be provided on an annual basis, outlining and describing how the funds were used. Each Awardee that receives an award must provide the Fund with the required complete and accurate Automated Clearinghouse (ACH) form for its bank account prior to award closing and disbursement.

VII. Agency Contacts

A. The Fund will respond to questions and provide support concerning this NOFA and the funding application between the hours of 9 a.m. and 5 p.m. ET, starting the date of the publication of this NOFA through May 25, 2009. The Fund will not respond to questions or provide support concerning the application that are received after 5 p.m. ET on said dates, until after the respective funding application deadline. Applications and other information regarding the Fund and its programs may be obtained from the Fund's Web site at http://www.cdfifund.gov. The Fund will post on its Web site responses to questions of general applicability regarding the CDFI Program.

B. The Fund's contact information is as follows:

Table 4—Contact Information
Type of question | Telephone number (not toll free) | E-mail addresses
Fax number for all offices: 202-622-7754
Information Technology/Technical Support | 202-622-2455 | ithelpdesk@cdfi.treas.gov.
CDFI Program | 202-622-6355 | cdfihelp@cdfi.treas.gov.
CDFI Certification | 202-622-6355 | cdfihelp@cdfi.treas.gov.
Grants Management | 202-622-8226 | grantsmanagement@cdfi.treas.gov.
Compliance, Monitoring and Evaluation | 202-622-6330 | cme@cdfi.treas.gov.

C. Information Technology Support: People who have visual or mobility impairments that prevent them from creating a Target Market map using the Fund's Web site should call (202) 622-2455 for assistance (this is not a toll free number).

D. Legal Counsel Support: If you have any questions or matters that you believe require response by the Fund's Office of Legal Counsel, please refer to the document titled “How to Request a Legal Review,” found on the Fund's Web site at http://www.cdfifund.gov. Further, if you wish to review the Assistance Agreement form document from a prior funding round, you may find it posted on the Fund's Web site (please note that there may be revisions to the Assistance Agreement that will be used for Awardees under this NOFA and thus the sample document on the Fund's Web site is provided for illustrative purposes only and should not be relied on for purposes of this NOFA).

E. Communication with the CDFI Fund: The Fund will use the myCDFIFund Internet interface to correspond with Applicants and Awardees, using the contact information maintained in their respective myCDFIFund accounts. Therefore, the Applicant and any Subsidiaries, signatories, and Affiliates must maintain accurate contact information (including contact person and authorized representative, e-mail addresses, fax numbers, phone numbers, and office addresses) in its myCDFIFund account(s). For more information about my CDFIFund (which includes information about the Fund's Community Investment Impact System), please see the Help documents posted at http://www.cdfifund.gov/ciis/accessingciis.pdf.

VIII. Information Sessions and Outreach

The Fund may conduct webcasts or host information sessions for organizations that are considering applying to, or are interested in learning about, the Fund's programs. For further information, please visit the Fund's Web site at http://www.cdfifund.gov.

Authority: 12 U.S.C. 4703, 4704, 4706, 4707, 4717; 12 CFR part 1805.

Dated: April 17, 2009.
Donna J. Gambrell,
Director, Community Development Financial Institutions Fund.

[FR Doc. E9-9633 Filed 4-27-09; 8:45 am]

BILLING CODE 4810-70-P